DEPARTMENT OF COMMERCE

National Oceanic and Atmospheric Administration

[I.D. 111606D]

Pacific Fishery Management Council; Public Work Session

AGENCY: National Marine Fisheries Service (NMFS), National Oceanic and Atmospheric Administration (NOAA), Commerce.

ACTION: Notice of a public meeting.

SUMMARY: The Pacific Fishery Management Council's (Council) Groundfish Management Team (GMT) will hold a working meeting which is open to the public.

DATES: The GMT working meeting will begin Monday, December 11, 2006, at 1 p.m. and may go into the evening if necessary to complete business.

ADDRESSES: The meeting will be held in Portland, OR, exact location to be determined. Contact the Council office for the meeting location address.

Council address: Pacific Fishery Management Council, 7700 NE Ambassador Place, Suite 101, Portland, OR 97220-1384.

FOR FURTHER INFORMATION CONTACT: Ms. Laura Bozzi, Pacific Fishery Management Council; telephone: (503) 820-2280.

SUPPLEMENTARY INFORMATION: The purpose of the GMT work session is to discuss the trawl individual quota alternatives under development by the Council. Specifically, the GMT will continue to develop statements that address the management feasibility of particular aspects of the proposed alternatives. No management actions will be decided by the GMT on these issues. The GMT's statements will be provided to facilitate decision-making at the Council's Groundfish Allocation Committee (GAC) December 12-14, 2006 meeting, as well as to the Council and its advisory bodies at a later point.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Authority: 16 U.S.C. 1801 et seq.

Dated: November 17, 2006.
Tracey L. Thompson,
Acting Director, Office of Sustainable Fisheries, National Marine Fisheries Service.

[FR Doc. E6-19817 Filed 11-22-06; 8:45 am]

BILLING CODE 3510-22-S